DEPARTMENT OF VETERANS AFFAIRS

38 CFR Part 17

RIN 2900-AE87

Per Diem for Nursing Home Care of Veterans in State Homes; Correction

AGENCY: Department of Veterans Affairs.

ACTION: Correcting amendment.

SUMMARY: This document contains a minor correction to the final regulation that the Department of Veterans Affairs (VA) published in 65 FR 23412 on January 6, 2000. The regulation relates to the payment of per diem to State homes that provide nursing home care to eligible veterans.

DATES: Effective date: April 11. 2007.

FOR FURTHER INFORMATION CONTACT: Candice Cornish, Office of Regulation Policy and Management (00REG), Department of Veterans Affairs, 810 Vermont Ave., NW., Washington, DC 20420, (202) 273-9957.

SUPPLEMENTARY INFORMATION: The VA published a document in the Federal Register on January 6, 2000, 65 FR 23412, revising its medical regulations concerning payment of per diem to State homes that provide nursing home care to eligible veterans. In that document, we failed to properly punctuate the end of § 17.190(c). This document corrects that error by removing “, and” and adding, in its place, a period.

List of Subjects in 38 CFR Part 17

Administrative practice and procedure, Claims, Disability benefits, Health care, Pensions, Radioactive materials, Veterans, Vietnam.

Robert C. McFetridge,
Assistant to the Secretary for Regulation Policy and Management.

For the reason set out in the preamble, VA is correcting 38 CFR part 17 as follows.

PART 17—MEDICAL

1. The authority citation for part 17 continues to read as follows:

Authority: 38 U.S.C. 501, 1721, and as stated in specific sections.

§ 17.190 [Corrected]

2. In § 17.190, paragraph (c) is amended by removing “, and” and adding, in its place, a period at the end of the paragraph.

[FR Doc. E7-6762 Filed 4-10-07; 8:45 am]

BILLING CODE 8320-01-P